ENVIRONMENTAL PROTECTION AGENCY

[AD-FRL-7042-9]

Public Meeting on Monitoring and Reporting Requirements for Combustion Turbines

AGENCY: Environmental Protection Agency (EPA).

ACTION: Notice.

SUMMARY: This document announces that EPA is inviting stakeholders to participate at a public meeting regarding monitoring and reporting requirements under 40 CFR part 75 and 40 CFR part 60 for combustion turbines, that will take place in Washington, DC, on October 9, 2001, to gather stakeholder input and recommendations regarding ways to improve and better harmonize those requirements.

DATES: The meeting will be held on October 9, 2001, in Washington, DC, from 9:30 am to 4:30 p.m. If you are planning to attend, please inform Dr. Ruben Deza, deza.ruben@epa.gov, by September 21, 2001. Written comments may also be provided and should be postmarked by September 21, 2001.

ADDRESSES: The meeting will be held in Washington, DC, at the 7th floor conference room of the Clean Air Markets Division at 633 3rd Street, N.W. building.

Comments should be submitted to Ruben D. Deza, PhD, e-mail: deza.ruben@epa.gov, Fax: 202-564-7372, Mailing Address: U.S. Environmental Protection Agency, Ariel Rios Building (6204N), 1200 Pennsylvania Avenue, NW, Washington, DC 20460, Office Location and FedEx Delivery: 633 3rd Street NW, 7 Floor, Washington, DC 20001.

FOR FURTHER INFORMATION CONTACT: Dr. Ruben Deza, Clean Air Markets Division, US Environmental Agency, Ariel Rios Building (6204N), 1200 Pennsylvania Avenue, NW, Washington, DC 20460, Phone: 202-564-3956, Fax: 202-564-7372, e-mail: deza.ruben@epa.gov.

SUPPLEMENTARY INFORMATION: EPA's Clean Air Markets Division (CAMD) is responsible for implementing Title IV (Acid Deposition Control) of the Clean Air Act Amendments (CAAA) of 1990. Part 75 of the Code of Federal Regulations (CFR) establishes continuous emission monitoring (CEM) requirements for facilities affected by Title IV. Combustion turbines are among the affected facilities. To meet the rising demand for electrical generating capacity in the United States, a large number of combustion turbines are expected to be built in the immediate future. CAMD expects that the number of combustion turbines reporting under part 75 will increase from approximately 400 to more than 1,000 in the next few years. Several stakeholders have noted to CAMD that some of the requirements in part 75 and in part 60 (the CFR provision dealing with performance of new sources) could be more efficiently implemented, if harmonized. In addition, the technology, operating characteristics, and emissions controls of turbines have changed dramatically since the introduction of the original rules. Resulting emissions of NOX from many new combustion turbine units are substantially less than those observed in the past. Consequently, there may be quality assurance procedures that are difficult to implement at newer turbines. For all these reasons, and EPA's continuous commitment to reduce the information burden, the Agency is seeking to identify emissions neutral opportunities to streamline the monitoring, testing and reporting requirements for combustion turbines under these rules.

To assist in this process, CAMD will hold a public meeting to solicit comments from interested parties. The purpose of the meeting is to identify opportunities for revising the part 75 and part 60 regulations for combustion turbines and secure stakeholder input on these recommendations and other needed changes to the regulations. CAMD is particularly interested in comments on duplicative requirements; inconsistencies; recommended improvements and enhancements; problems in emissions monitoring, reporting, and testing requirements; conflicts with state permitting authorities; and the need for separate requirements for different models of combustion turbines, subclasses of turbines, add-on controls, and operating conditions.

The meeting will be held on October 9, 2001, in Washington, DC. While this is an open forum for discussion of issues, some agenda time will be reserved for participants to make presentations. Participants seeking to make presentations should contact Dr. Deza at the above address and provide a brief abstract of their intended discussion. Written comments and data submission are also encouraged. A final agenda will be posted on the CAMD web page prior to the meeting.

Dated: August 16, 2001
Paul Stolpman,
Director, Office of Atmospheric Programs.

[FR Doc. 01-21444 Filed 8-23-01; 8:45 am]

BILLING CODE 6560-50-P